DEPARTMENT OF DEFENSE

GENERAL SERVICES ADMINISTRATION

NATIONAL AERONAUTICS AND SPACE ADMINISTRATION

[EO-13563-FAR-Docket Number 2011-0085; Sequence 1]

48 CFR Chapter 1

FAR Council's Plan for Retrospective Review Under Executive Order 13563—Preliminary Plan

AGENCIES: Department of Defense (DoD), General Services Administration (GSA), and National Aeronautics and Space Administration (NASA).

ACTION: Request for Information.

SUMMARY: The Federal Acquisition Regulatory (FAR) Council has developed a preliminary plan for the retrospective analysis of provisions in the FAR, in accordance with Executive Order (E.O.) 13563, “Improving Regulation and Regulatory Review.” The E.O. sets forth principles and requirements designed to strengthen regulations and regulatory review by promoting public participation, improving integration and innovation, increasing flexibility, and increasing retrospective analysis of existing rules. The E.O. requires every agency to develop “a preliminary plan, consistent with law and its resources and regulatory priorities, under which the agency will periodically review its existing significant regulations to determine whether such regulations should be modified, streamlined, expanded or repealed to make the agency's regulatory program more effective and or less burdensome in achieving its regulatory objectives.” To comply with E.O. 13563, the FAR Council invites interested members of the public to submit comments on its preliminary plan available at http://www.whitehouse.gov/21stcenturygov/actions/21st-century-regulatory-system.

DATES: Comment Date: Interested parties should submit written comments to the Regulatory Secretariat on or before July 5, 2011 to be considered in the formulation of a final plan.

ADDRESSES: Submit comments identified by Regulatory Burden; Federal Acquisition Regulatory Council Retrospective Review Under Executive Order 13563 Preliminary Plan by any of the following methods:

• Regulations.gov: http://www.regulations.gov. Submit comments via the Federal eRulemaking portal by inputting the document title under the heading “Enter Keyword or ID” and selecting “search.” Select the link “Submit a Comment” that corresponds with “FAR Council's Plan for Retrospective Review under Executive Order 13563—Preliminary Plan.” Follow the instructions provided to complete the “Submit a Comment” screen. Please include your name, company name (if any), and “FAR Council's Plan for Retrospective Review under Executive Order 13563—Preliminary Plan” on your attached document.

• Fax: 202-501-4067.

• Mail: General Services Administration, Regulatory Secretariat (MVCB), 1275 First Street, NE., 7th floor, ATTN: Hada Flowers, Washington, DC 20417.

Instructions: Please submit comments only and cite the “FAR Council's Plan for Retrospective Review under Executive Order 13563—Preliminary Plan” in all correspondence related to this case. All comments received will be posted without change to http://www.regulations.gov, including any personal and/or business confidential information provided.

FOR FURTHER INFORMATION CONTACT: The FAR Secretariat at (202) 501-4755, for information pertaining to status or publication schedules. For clarification of content, contact Julia Wise, Procurement Policy Analyst at (202) 395-7561 or jwise@omb.eop.gov. Please cite the “FAR Council's Plan for Retrospective Review under Executive Order 13563—Preliminary Plan.”

SUPPLEMENTARY INFORMATION: On January 18, 2011, the President signed E.O. 13563, “Improving Regulation and Regulatory Review,” published in the Federal Register at 76 FR 3821 on January 21, 2011, which states that agencies must consider costs and benefits of their regulations and choose the least burdensome path. Agencies are required to coordinate, simplify, and harmonize regulations to reduce costs and promote certainty for businesses and the public.

Section 6 of E.O. 13563 emphasizes the importance of retrospective analysis of rules and requires agencies to develop a plan, under which the agency will periodically review its existing significant regulations to determine whether any such regulations should be modified, expanded, streamlined, or repealed so as to make the agency's regulatory program more effective or less burdensome in achieving the regulatory objectives.

Request for Comments

The FAR Council invites public comments on its plans for retrospective analysis. The Council's plan has tentatively identified eight priority initiatives for new or continued retrospective analysis and follow-up action over the next two years. These initiatives include—

1. Re-examining FAR Council process for applying new regulatory requirements to commercial item acquisitions & small (simplified) purchases;

2. Exploring opportunities to accelerate payments to small businesses;

3. Reviewing rules governing communications with vendors before awarding contracts;

4. Reducing number of competitions that result in only one offer;

5. Revisiting the process for reviewing past performance information;

6. Working with SBA to modernize rules for using contract set-asides and small business subcontracting plans;

7. Restructuring rules addressing conflicts of interest; and

8. Clarifying rules addressing the use of competition for Blanket purchase agreements.

The FAR Council welcomes comments on its preliminary plan and the initiatives discussed therein. The FAR Council further invites comments about any additional regulations, other than those listed in the preliminary plan, that should be modified, expanded, streamlined, or repealed in order to make the FAR more effective or less burdensome or both.

The FAR Council advises that this notice and request for comments is issued for information and policy development purposes. Although the FAR Council encourages responses to this notice, such comments do not bind the FAR Council to taking any further actions related to the submission.

Dated: May 31, 2011.
Laura Auletta,
Acting Director, Office of Governmentwide Acquisition Policy, General Services Administration.

[FR Doc. 2011-13835 Filed 6-2-11; 8:45 am]

BILLING CODE 6820-EP-P